DEPARTMENT OF COMMERCE

Foreign-Trade Zones Board

[Docket 45-2003]

Foreign-Trade Zone 72—Indianapolis, Indiana, Area Application for Expansion

An application has been submitted to the Foreign-Trade Zones (FTZ) Board (the Board) by the Indianapolis Airport Authority, grantee of Foreign-Trade Zone 72, requesting authority to expand FTZ 72 to include additional sites in the Indianapolis, Indiana area, within the Indianapolis Customs port of entry. The application was submitted pursuant to the provisions of the Foreign-Trade Zones Act, as amended (19 U.S.C. 81a-81u), and the regulations of the Board (15 CFR part 400). It was formally filed on September 10, 2003.

FTZ 72 was approved on September 28, 1981 (Board Order 179, 46 FR 50091, 10/9/81) and expanded on September 2, 1992 (Board Order 598, 57 FR 41915, 9/14/92). The zone project currently consists of the 5,500-acre Indianapolis International Airport complex.

The applicant is now requesting authority to expand the general-purpose zone to include four new sites (1,631.42 acres) in the Indianapolis area: Proposed Site 2 (620.485 acres)—Anderson Business Development Center in Anderson (Madison County): Proposed Site 2A (128.536 acres)—greenfield property located north of Interstate 69, west of the Conrail Railroad track and south of West 73rd Street (County Road 450 South); Proposed Site 2B (35.067 acres)—manufacturing/distribution facilities and greenfield property located north of West 73rd Street and west of the Conrail Railroad track; Proposed Site 2C (154.76 acres)—warehousing/distribution facilities and greenfield property located at the end and north of West 73rd Street; Proposed Site 2D (132 acres)—manufacturing/distribution facilities and greenfield property located north of 32nd Street and west of Scatterfield Road; Proposed Site 2E (126.34 acres)—manufacturing/ distribution facilities and greenfield property located north of 38th Street, east of Scatterfield Road and south of Mounds Road; and, Proposed Site 2F (43.782 acres)—industrial facility located south of Interstate 69, west of State Road 109 and north of 67th Street; Proposed Site 3 (675.13 acres)— distribution/manufacturing facilities and greenfield property within the Park 100 Business Park, located at 71st Street and Interstate 465, Indianapolis (Marion County); Proposed Site 4 (153.51 acres)—distribution/manufacturing facilities and greenfield property within the Park Fletcher Business Park, located at Interstate 465 and Airport Expressway in Indianapolis (Marion County); and, Proposed Site 5 (182.295 acres)—Plainfield Business Park in Plainfield (Hendricks County): Proposed Site 5A (6 parcels, 113.615 acres)—industrial facilities and greenfield property located at Interstate 70 and Perry Road and Proposed Site 5B (68.68 acres)—distribution/manufacturing facility and greenfield property located at 2213-2233 Stafford Road. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street NW., Washington, DC 20005; or

2. Submissions via the U.S. Postal Service: Foreign-Trade Zones Board, U.S. Department of Commerce, FCB—Suite 4100W, 1401 Constitution Avenue NW, Washington, DC 20230.

The closing period for their receipt is November 17, 2003. Rebuttal comments in response to material submitted during the foregoing period may be submitted during the subsequent 15-day period (to December 2, 2003).

A copy of the application and accompanying exhibits will be available for public inspection at the Office of the Foreign-Trade Zones Board's Executive Secretary at the first address listed above, and at the U.S. Department of Commerce, Export Assistance Center, 11405 North Pennsylvania Street, Suite 106, Carmel, IN 46032.

Dated: September 10, 2003.
Dennis Puccinelli,
Executive Secretary.

[FR Doc. 03-23860 Filed 9-17-03; 8:45 am]

BILLING CODE 3510-DS-P